DEPARTMENT OF COMMERCE

International Trade Administration

[A-475-818]

Certain Pasta From Italy: Notice of Partial Rescission of Antidumping Duty Administrative Review

AGENCY: Import Administration, International Trade Administration, Department of Commerce.

DATES: Effective Date: October 19, 2011.

FOR FURTHER INFORMATION CONTACT: Dennis McClure or George McMahon AD/CVD Operations, Office 3, Import Administration, International Trade Administration, U.S. Department of Commerce, 14th Street and Constitution Avenue, NW., Washington, DC 20230; telephone: (202) 482-5973 or (202) 482-1167, respectively.

SUPPLEMENTARY INFORMATION:

Background

On July 1, 2011, the Department of Commerce (“the Department”) published a notice of opportunity to request an administrative review of the antidumping duty order on certain pasta from Italy.¹ Pursuant to requests from interested parties, the Department published in the Federal Register the notice of initiation of this antidumping duty administrative review with respect to the following companies for the period July 1, 2010, through June 30, 2011:

¹ See Antidumping or Countervailing Duty Order, Finding, or Suspended Investigation; Opportunity To Request Administrative Review, 76 FR 38609 (July 1, 2011).

Botticelli Mediterraneo S.a.r.l.2 (“Botticelli”), Fiamma Vesuviana S.r.L. (“Fiamma”), Industria Alimentare Filiberto Bianconi 1947 S.p.A. (“Filiberto”), Labor S.r.L. (“Labor”), PAM. S.p.A. and its affiliate, Liguori Pastificio dal 1820 SpA (“PAM”), P.A.P. SNC Di Pazienza G.B. & C. (“P.A.P.”), Premiato Pastificio Afeltra S.r.L. (“Afeltra”), Pasta Lensi S.r.l. (“Lensi”), Pastaficio Zaffiri (“Zaffiri”), Pastificio Attilio Mastromauro-Pasta Granoro S.R.L. (“Granoro”),² Pastificio Di Martino Gaetano & F.lli SpA (“Di Martino”), Pastificio Fratelli Cellino, S.r.l. (“Fratelli”), Pastificio Lucio Garofalo S.p.A. (“Garofalo”), Pastificio Riscossa F.lli Mastromauro S.p.A. (“Riscossa”), Rummo S.p.A. Molino e Pastificio (“Rummo”), Rustichella d'Abruzzo S.p.A. (“Rustichella”) and Industria Alimentare Colavita, S.p.A. (“Indalco”).³

² The Department notes that, “{o}n August 31, 2010, the Department deferred the 7/1/2009-6/30/2010 administrative review for Pastificio Attilio Mastromauro-Pasta Granoro S.R.L. for one year (75 FR 53274). We are now initiating this review one year later along with the 7/1/2010-6/30/2011 administrative review.” See Initiation of Antidumping and Countervailing Duty Administrative Reviews and Requests for Revocation in Part, 76 FR 53404, 53408 (August 26, 2011) (First Initiation Notice).

³ See First Initiation Notice and Initiation of Antidumping and Countervailing Duty Administrative Reviews and Requests for Revocation in Part, 76 FR 61076 (October 3, 2011) (collectively, “Initiation Notices”).

On September 13, 2011, the Department announced its intention to select mandatory respondents based on U.S. Customs and Border Protection (“CBP”) data.⁴ On October 3, 2011, the Department selected Garofalo and Rummo as mandatory respondents.⁵ On October 11, 2011, Garofalo withdrew its request for a review.

⁴ See Memorandum from Christopher Hargett to Melissa Skinner titled “Customs and Border Protection Data for Selection of Respondents for Individual Review,” dated September 13, 2011.

⁵ See Memorandum from Christopher Hargett to Melissa Skinner titled “Selection of Respondents for Individual Review,” dated October 3, 2011.

Partial Rescission of the 2010-2011 Administrative Review

Pursuant to 19 CFR § 351.213(d)(1), the Secretary will rescind an administrative review, in whole or in part, if the parties that requested a review withdraw the request within 90 days of the date of publication of the notice of initiation of the requested review. The instant review was initiated on August 31, 2011. See Initiation Notices. Garofalo withdrew its request for a review on October 11, 2011, within the 90-day deadline. No other party requested an administrative review of this particular company. Therefore, in accordance with 19 CFR § 351.213(d)(1), and consistent with our practice, we are rescinding this review of the antidumping duty order on certain pasta from Italy, in part, with respect to Garofalo.⁶ The instant review will continue with respect to Botticelli, Fiamma, Filiberto, Labor, PAM., P.A.P., Afeltra, Lensi, Zaffiri, Granoro, Di Martino, Fratelli, Riscossa, Rummo, Rustichella, and Indalco.

⁶ See, e.g., Certain Lined Paper Products From India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

Assessment

The Department will instruct CBP to assess antidumping duties on all appropriate entries. For the company for which this review is rescinded, Garofalo, antidumping duties shall be assessed at rates equal to the cash deposit of estimated antidumping duties required at the time of entry, or withdrawal from warehouse, for consumption, during the period July 1, 2010, through June 30, 2011, in accordance with 19 CFR 351.212(c)(1)(i).

The Department intends to issue appropriate assessment instructions directly to CBP 15 days after publication of this notice.

Notification to Importers

This notice serves as a reminder to importers of their responsibility under 19 CFR § 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Order

This notice serves as a final reminder to parties subject to administrative protective orders (“APOs”) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: October 12, 2011.
Christian Marsh,
Deputy Assistant Secretary for Antidumping and Countervailing Duty Operations.

[FR Doc. 2011-27066 Filed 10-18-11; 8:45 am]

BILLING CODE 3510-DS-P